NUCLEAR REGULATORY COMMISSION

[Docket Nos. 50-280 and 50-281]

Virginia Electric and Power Company; Surry Power Station, Unit Nos. 1 and 2, Environmental Assessment and Finding of No Significant Impact

The U.S. Nuclear Regulatory Commission (NRC) is considering issuance of exemptions from Title 10 of the Code of Federal Regulations (10 CFR), Part 50, Appendix G, “Fracture Toughness Requirements” and 10 CFR Part 50, Section 50.61, “Fracture toughness requirements for protection against pressurized thermal shock events,” for Renewed Facility Operating License Nos. DPR-32 and DPR-37, issued to Virginia Electric and Power Company (the licensee), for operation of the Surry Power Station, Unit Nos. 1 and 2 (Surry 1 and 2), located in Surry County, Virginia. Therefore, as required by 10 CFR 51.21, the NRC is issuing this environmental assessment and finding of no significant impact.

Environmental Assessment

Identification of the Proposed Action

The proposed action, as described in the licensee's application dated June 13, 2006 (Agencywide Documents Access and Management System (ADAMS) Accession No. ML061650080), would allow use of an alternate method, as described in Framatome Advanced Nuclear Power Topical Report BAW-2308, Revision 1, “Initial RTNDT of Linde 80 Weld Materials,” for determining the adjusted reference nil-ductility temperature (RTNDT) of the Linde 80 weld materials present in the beltline region of the Surry 1 and 2 reactor pressure vessels (RPVs). On August 4, 2005, NRC approved the Topical Report BAW-2308, Revision 1 (ADAMS Accession No. ML052070408).

The Need for the Proposed Action

The underlying purpose of 10 CFR Part 50, Appendix G, and 10 CFR 50.61 is to protect the integrity of the reactor coolant pressure boundary by ensuring that each RPV material has adequate fracture toughness. Per 10 CFR Part 50, Appendix G, and 10 CFR 50.61, the methodology for evaluating RPV material fracture toughness is based on Charpy V-notch and drop weight data. This methodology has been shown to be overly conservative when used to predict the transition from ductile to brittle failure in Linde 80 welds. As a result, the licensee proposes to use an alternate methodology as described in the NRC approved Topical Report BAW-2308, Revision 1, and this alternate methodology still yields conservative results for demonstrating compliance with the requirements of 10 CFR Part 50, Appendix G, and 10 CFR 50.61.

Environmental Impacts of the Proposed Action

The NRC has completed its safety evaluation (SE) of the proposed action and concludes that the proposed exemptions will not present an undue risk to the public health and safety. The details of the NRC staff's SE will be provided in the exemptions that will be issued as part of the letter to the licensee approving the exemptions to the regulation. The exemptions would allow the licensee to use an alternative methodology to make use of fracture toughness test data for evaluating the integrity of the Surry 1 and 2 RPV circumferential beltline welds; do not compromise the safe operation of the reactors, and ensure that RPV integrity is maintained. Further, these exemptions will not increase the potential for failure of RPV due to PTS. Therefore, these exemptions have no significant environmental impacts.

The proposed action will not significantly increase the probability or consequences of accidents. No changes are being made in the types of effluents that may be released off site. There is no significant increase in the amount of any effluent released off site. There is no significant increase in occupational or public radiation exposure. Therefore, there are no significant radiological environmental impacts associated with the proposed action.

With regard to potential non-radiological impacts, the proposed action does not have a potential to affect any historic sites. It does not affect non-radiological plant effluents and has no other environmental impact. Therefore, there are no significant non-radiological environmental impacts associated with the proposed action.

Accordingly, the NRC concludes that there are no significant environmental impacts associated with the proposed action.

Environmental Impacts of the Alternatives to the Proposed Action

As an alternative to the proposed action, the NRC staff considered denial of the proposed action (i.e., the “no-action” alternative). Denial of the application would result in no change in current environmental impacts. The environmental impacts of the proposed action and the alternative action are similar.

Alternative Use of Resources

The action does not involve the use of any different resources than those previously considered in the Final Environmental Statement related to the operation of Surry 1 and 2, May and June 1972, respectively.

Agencies and Persons Consulted

In accordance with its stated policy, on April 25, 2007, the NRC staff consulted with Mr. Les Foldesi, Director of the Bureau of Radiological Health, Commonwealth of Virginia, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated June 13, 2006. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr@nrc.gov.

Dated at Rockville, Maryland, this 21st day of June 2007.
For the Nuclear Regulatory Commission.
Siva P. Lingam,
Project Manager, Plant Licensing Branch II-1, Division of Operating Reactor Licensing, Office of Nuclear Reactor Regulation.

[FR Doc. E7-12431 Filed 6-26-07; 8:45 am]

BILLING CODE 7590-01-P